DEPARTMENT OF TRANSPORTATION

Federal Aviation Administration

Notice of Release of an Easement Restriction; Phoenix-Mesa Gateway Airport, Mesa, Maricopa County, Arizona

AGENCY: Federal Aviation Administration, DOT.

ACTION: Notice of request to release airport land.

SUMMARY: The Federal Aviation Administration (FAA) is considering a proposal and invites public comment to release a perpetual easement restriction at the Phoenix-Mesa Gateway Airport (IWA), Mesa, Maricopa County, Arizona. The proposal consists of a 16.69- acres perpetual easement, located outside of the airfield, adjacent to the southeast corner of Ellsworth Rd and the State Route 24 extension.

DATES: Comments must be received on or before September 13, 2021.

ADDRESSES: Comments on the request may be mailed or delivered to the FAA at the following address: Mr. Mike N. Williams, Manager, Phoenix Airports District Office, Federal Aviation Administration, 3800 N Central Ave, Suite 1025, 10th Floor, Phoenix, Arizona, 85012. In addition, one copy of the comment submitted to the FAA must be mailed or delivered to Mr. J. Brian O'Neill, Executive Director/CEO, Phoenix-Mesa Gateway Airport, 5835 S Sossaman Rd, Mesa, Arizona 85212.

FOR FURTHER INFORMATION CONTACT:

Mr. Mike N. Williams, Manager, Phoenix Airports District Office, 602-792-1061

Mr. J. Brian O'Neill, Executive Director/CEO, Phoenix-Mesa Gateway Airport, 480-988-7608

SUPPLEMENTARY INFORMATION: The perpetual easement was transferred to the Phoenix-Mesa Gateway Airport Authority in 1992 from the United States Air Force as part of the Base Realignment and Closure process. The land will be released to the adjacent property owner for compatible non-aeronautical development. Such use of the land represents a compatible land use that will not interfere with the airport or its operation, thereby protecting the interests of civil aviation. The airport will be compensated for the fair market value of the use of the land.

In accordance with the Wendell H. Ford Aviation Investment and Reform Act for the 21st Century (AIR 21), Public Law 10-181 (Apr. 5, 2000; 114 Stat. 61), this notice must be published in the Federal Register 30 days before the DOT Secretary may waive any condition imposed on a federally obligated airport by surplus property conveyance deeds or grant agreements.

Issued in El Segundo, California, on August 9, 2021.
Brian Q. Armstrong,
Manager, Safety and Standards Branch, Airports Division, Western-Pacific Region.

[FR Doc. 2021-17257 Filed 8-11-21; 8:45 am]

BILLING CODE 4910-13-P